DEPARTMENT OF COMMERCE

United States Patent and Trademark Office

Patent Processing (Updating)

ACTION: Proposed collection; comment request.

SUMMARY: The United States Patent and Trademark Office (USPTO), as part of its continuing effort to reduce paperwork and respondent burden, invites the general public and other Federal agencies to take this opportunity to comment on this extension of a continuing information collection, as required by the Paperwork Reduction Act of 1995, Public Law 104-13 (44 U.S.C. 3506(c)(2)(A)).

DATES: Written comments must be submitted on or before July 22, 2016.

ADDRESSES: You may submit comments by any of the following methods:

• Email: InformationCollection@uspto.gov. Include “0651-0031 inquiry” in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Raul Tamayo, Senior Legal Advisor, Office of Patent Legal Administration, United States Patent and Trademark Office, P.O. Box 1450, Alexandria, VA 22313-1450; by telephone at 571-272-7728; or by email to Raul.Tamayo@uspto.gov with “0651-0031 inquiry” in the subject line. Additional information about this collection is also available at http://www.reginfo.gov under “Information Collection Review.”

SUPPLEMENTARY INFORMATION:

I. Abstract

The United States Patent and Trademark Office (USPTO) is required by 35 U.S.C. 131 to examine an application for patent and, when appropriate, issue a patent. The USPTO is also required to publish patent applications, with certain exceptions, promptly after the expiration of a period of eighteen months from the earliest filing date for which a benefit is sought under Title 35, United States Code (“eighteen-month publication”). Certain situations may arise which require that additional information be supplied in order for the USPTO to further process the patent or application. The USPTO administers the statutes through various sections of the rules of practice in 37 CFR part 1.

The information in this collection can be used by the USPTO to continue the processing of the patent or application to ensure that applicants are complying with the patent regulations and to aid in the prosecution of the application.

II. Method of Collection

The forms associated with this collection may be downloaded from the USPTO Web site in Portable Document Format (PDF), filled out electronically, and then either printed for mailing or submitted to the USPTO online through EFS-Web. The “EFS-Web only” items in this collection must be submitted to the USPTO online through EFS-Web. In addition, the USPTO provides an electronic interface on its Web site that the public can use to submit the information associated with the Electronic Applicant Initiated Interview Request Form.

III. Data

OMB Number: 0651-0031.

IC Instruments and Forms: PTO/AIA/22, PTO/AIA/24, PTO/AIA/24B, PTO/AIA/31, PTO/AIA/32, PTO/AIA/33, PTO/AIA/40, PTO/AIA/41, PTO/AIA/96, PTO/SB/08a, PTO/SB/08b, PTO/SB/17i, PTO/SB/21, PTO/SB/22, PTO/SB/24, PTO/SB/24B, PTO/SB/25, PTO/SB/26, PTO/SB/27, PTO/SB/30, PTO/SB/31, PTO/SB/32, PTO/SB/33, PTO/SB/35, PTO/SB/36, PTO/SB/37, PTO/SB/38, PTO/SB/39, PTO/SB/43, PTO/SB/61, PTO/SB/63, PTO/SB/64, PTO/SB/64a, PTO/SB/67, PTO/SB/68, PTO/SB/91, PTO/SB/92, PTO/SB/96, PTO/SB/97, PTO/SB/130, PTO-2053-A/B, PTO-2054-A/B, PTO-2055-A/B, PTOL-413A, and PTOL-413C.

Type of Review: Revision of a Previously-Existing Information Collection.

Affected Public: Individuals or households; businesses or other for-profits; and non-profit institutions.

Estimated Number of Respondents: 3,542,082 responses per year.

Estimated Time per Response: The USPTO estimates that it will take the public between 2 minutes (.03 hours) and 8 hours to submit a single item in this collection depending on the instrument used, including the time to gather the necessary information, prepare the appropriate form or petition, and submit the completed request to the USPTO. The time per response, estimated annual responses, and estimated annual hour burden associated with each instrument in this collection are shown in the table below.

Estimated Total Annual Respondent Burden Hours: 3,631,187.33 hours.

Estimated Total Annual Respondent (Hourly) Cost Burden: $952,818,894.17. The USPTO expects that attorneys and/or paralegals will complete the instruments listed in the table below. The professional hourly rates for attorneys and paralegals, based on AIPLA's 2015 Report of the Economic Survey, are $410 and $125 respectively. Using these hourly rates, the USPTO estimates that the total respondent cost burden for this collection is $952,818,894.17 per year.

IC No. | Item | Estimated response time (minutes) | Estimated annual responses | Estimated annual burden (hours) | Rate ($/hr)
|  | (a) | (b) | (a) × (b)/60 = (c) | (d)
1 | EFS-Web IDS (Information Disclosure Statements) that do not require the fee set forth in 37 CFR 1.17(p) | 120 | 635,000 | 1,270,000.00 | 410.00
1 | Information Disclosure Statements that do not require the fee set forth in 37 CFR 1.17(p) | 120 | 20,000 | 40,000.00 | 410.00
1 | EFS-Web IDS (Information Disclosure Statements) that require the fee set forth in 37 CFR 1.17(p) | 120 | 115,000 | 230,000.00 | 410.00
1 | Information Disclosure Statements that require the fee set forth in 37 CFR 1.17(p) | 120 | 5,000 | 10,000.00 | 410.00
2 | Electronic Transmittal Form | 120 | 850,000 | 1,700,000.00 | 125.00
2 | Transmittal Form | 120 | 50,000 | 100,000.00 | 125.00
3 | Electronic Petition for Extension of Time under 37 CFR 1.136(a) | 6 | 290,000 | 29,000.00 | 125.00
3 | Petition for Extension of Time under 37 CFR 1.136(a) | 6 | 10,000 | 1,000.00 | 125.00
4 | Electronic Express Abandonment under 37 CFR 1.138 | 12 | 4,800 | 960.00 | 125.00
4 | Express Abandonment under 37 CFR 1.138 | 12 | 200 | 40.00 | 125.00
5 | Electronic Statutory Disclaimers (including terminal disclaimers) | 12 | 58,000 | 11,600.00 | 410.00
5 | Statutory Disclaimers (including terminal disclaimers) | 12 | 2,000 | 400.00 | 410.00
6 | Electronic Request for Expedited Examination of a Design Application | 6 | 390 | 39.00 | 410.00
6 | Request for Expedited Examination of a Design Application | 6 | 10 | 1.00 | 410.00
7 | Electronic Notice of Appeal | 12 | 28,000 | 5,600.00 | 410.00
7 | Notice of Appeal | 12 | 1,000 | 200.00 | 410.00
8 | Electronic Petition for Revival of an Application for Patent Abandoned Unintentionally | 60 | 7,500 | 7,500.00 | 410.00
8 | Petition for Revival of an Application for Patent Abandoned Unintentionally | 60 | 500 | 500.00 | 410.00
9 | Electronic Petition for Revival of an Application for Patent Abandoned for Failure to Notify the Office of a Foreign or International Filing | 60 | 190 | 190.00 | 410.00
9 | Petition for Revival of an Application for Patent Abandoned for Failure to Notify the Office of a Foreign or International Filing | 60 | 10 | 10.00 | $410.00
10 | Electronic Requests to Access, Inspect and Copy | 12 | 95,000 | 19,000.00 | 125.00
10 | Requests to Access, Inspect and Copy | 12 | 5,000 | 1,000.00 | 125.00
11 | Electronic Deposit Account Order Form | 12 | 1,600 | 320.00 | 125.00
11 | Deposit Account Order Form | 12 | 100 | 20.00 | 125.00
12 | Electronic Certificates of Mailing or Transmission | 2 | 750,000 | 25,000.00 | 125.00
12 | Certificates of Mailing or Transmission | 2 | 50,000 | 1,666.66 | 125.00
13 | Electronic Statement Under 37 CFR 3.73(c) | 12 | 240,000 | 48,000.00 | 410.00
13 | Statement Under 37 CFR 3.73(c) | 12 | 10,000 | 2,000.00 | 410.00
14 | Electronic Non-publication Request | 6 | 23,000 | 2,300.00 | 410.00
14 | Non-publication Request | 6 | 1,000 | 100.00 | 410.00
15 | Electronic Rescission of Previous Non-publication Request (35 U.S.C. 122(b)(2)(B)(ii) and, if applicable, Notice of Foreign Filing (35 U.S.C. 122(b)(2)(B)(iii) | 6 | 900 | 90.00 | 410.00
15 | Rescission of Previous Non-publication Request (35 U.S.C. 122(b)(2)(B)(ii) and, if applicable, Notice of Foreign Filing (35 U.S.C. 122(b)(2)(B)(iii) | 6 | 50 | 5.00 | 410.00
16 | Electronic Filing System (EFS) Copy of Application for Publication | 150 | 1 | 2.50 | 125.00
17 | Copy of File Content Showing Redactions | 240 | 1 | 4.00 | 410.00
18 | Copy of the Applicant or Patentee's Record of the Application (including copies of the correspondence, list of the correspondence, and statements verifying whether the record is complete or not) | 120 | 10 | 20.00 | 125.00
19 | EFS-Web Request for Continued Examination (RCE) Transmittal | 12 | 165,000 | 33,000.00 | 410.00
19 | Request for Continued Examination (RCE) Transmittal | 12 | 5,000 | 1,000.00 | 410.00
20 | Electronic Request for Oral Hearing Before the Patent Trial and Appeal Board | 12 | 950 | 190.00 | 410.00
20 | Request for Oral Hearing Before the Patent Trial and Appeal Board | 12 | 50 | 10.00 | 410.00
21 | Electronic Request for Suspension of Action or Deferral of Examination Under 37 CFR 1.103(b), (c), or (d) | 12 | 700 | 140.00 | 410.00
21 | Request for Suspension of Action or Deferral of Examination Under 37 CFR 1.103(b), (c), or (d) | 12 | 50 | 10.00 | 410.00
22 | EFS-Web Request for Voluntary Publication or Republication (includes publication fee for republication) | 12 | 290 | 58.00 | 125.00
22 | Request for Voluntary Publication or Republication (includes publication fee for republication) | 12 | 10 | 2.00 | 125.00
23 | Electronic Applicant Initiated Interview Request Form | 24 | 11,000 | 4,400.00 | 410.00
23 | Applicant Initiated Interview Request Form | 24 | 3,500 | 1,400.00 | 410.00
24 | Electronic Processing Fee Under 37 CFR 1.17(i) Transmittal | 5 | 340 | 28.33 | 410.00
24 | Processing Fee Under 37 CFR 1.17(i) Transmittal | 5 | 10 | 0.83 | 410.00
25 | Electronic Request to Retrieve Electronic Priority Application(s) Under 37 CFR 1.55(h) | 8 | 11,500 | 1,533.33 | 410.00
25 | Request to Retrieve Electronic Priority Application (s) Under 37 CFR 1.55(h) | 8 | 500 | 66.67 | 410.00
26 | Electronic Authorization or Rescission of Authorization to Permit Access to Application-as-filed by Participating Offices Under 37 CFR 1.14(h) | 6 | 14,500 | 1,450.00 | 410.00
26 | Authorization or Rescission of Authorization to Permit Access to Application-as-filed by Participating Offices Under 37 CFR 1.14(h) | 6 | 500 | 50.00 | 410.00
27 | Electronic Petition for Express Abandonment to Obtain a Refund | 12 | 1,550 | 310.00 | 410.00
27 | Petition for Express Abandonment to Obtain a Refund | 12 | 50 | 10.00 | 410.00
28 | Electronic Pre-Appeal Brief Request for Review | 300 | 10,500 | 52,500.00 | 410.00
28 | Pre-Appeal Brief Request for Review | 300 | 500 | 2,500.00 | 410.00
29 | EFS-Web Request for Corrected Filing Receipt | 5 | 29,000 | 2,416.67 | 125.00
29 | Request for Corrected Filing Receipt | 5 | 1,000 | 83.33 | 125.00
30 | Request for First Action Interview (Pilot Program) (Electronic only) | 150 | 1,200 | 3,000.00 | 410.00
31 | Petition to Make Special Based on Age for Advancement of Examination under 37 CFR 1.102(c)(1) (EFS-Web only) | 120 | 2,000 | 4,000.00 | 410.00
32 | Electronic Filing a submission after final rejection (see 37 CFR 1.129(a)) | 480 | 110 | 880.00 | 410.00
32 | Filing a submission after final rejection (see 37 CFR 1.129(a)) | 480 | 10 | 80.00 | 410.00
33 | Electronic correction of inventorship after first office action on the merits | 45 | 2,900 | 2,175.00 | 410.00
33 | Correction of inventorship after first office action on the merits | 45 | 100 | 75.00 | 410.00
34 | Electronic request for correction in a patent application relating to inventorship or an inventor name, or order of names, other than in a reissue application (37 CFR 1.48) | 45 | 14,500 | 10,875.00 | 410.00
34 | Request for correction in a patent application relating to inventorship or an inventor name, or order of names, other than in a reissue application (37 CFR 1.48) | 45 | 500 | 375.00 | 410.00
35 | Electronic request to correct or update the name of the applicant under 37 CFR 1.46(c)(1), or change the applicant under 37 CFR 1.46(c)(2) | 12 | 9,500 | 1,900.00 | 410.00
35 | Request to correct or update the name of the applicant under 37 CFR 1.46(c)(1), or change the applicant under 37 CFR 1.46(c)(2) | 12 | 500 | 100.00 | 410.00
Total |  |  | 3,542,082 | 3,631,187.33 |

Estimated Total Annual (Non-hour) Respondent Cost Burden: $420,815,258.45. There are no recordkeeping, maintenance, or capital start-up costs associated with this information collection. There is, however, a non-hour cost burden in the form of postage costs and filing fees.

Postage

The public may submit the paper forms and petitions in this collection to the USPTO by mail through the United States Postal Service. If the submission is sent by first-class mail, the public may also include a signed certification of the date of mailing in order to receive credit for timely filing. Therefore, the USPTO estimates that approximately 167,161 submissions per year may be mailed. The USPTO estimates that the average submission will be mailed in a standard flat-rate priority mail envelope at a cost of $6.45, resulting in a total postage cost of $1,078,188.45.

Filing Fees

IC No. | Item | Estimated annual responses | Filing fee per response * | Total annual (non-hour) cost burden
|  | (a) | (b) | (a) × (b) = (c)
1 | Information Disclosure Statements (IDS) that require the fee set forth in 37 CFR 1.17(p) | 90,000 | $180.00 | $16,200,000.00
1 | IDS that require the fee set forth in 37 CFR 1.17(p) (small entity) | S: 27,500 M: 2,500 | S: $90.00 M: $45.00 | S: $2,475,000.00 M: $112,500.00
3 | One-month Extension of Time under 37 CFR 1.136(a) | 102,500 | $200.00 | $20,500,000.00
3 | One-month Extension of Time under 37 CFR 1.136(a) (small entity) | S: 38,000 M: 4,000 | S: $100.00 M: $50.00 | S: $3,800,000.00 M: $200,000.00
3 | Two-month Extension of Time under 37 CFR 1.136(a) | 43,600 | $600.00 | $26,160,000.00
3 | Two-month Extension of Time under 37 CFR 1.136(a) (small entity) | S: 22,000 M: 2,100 | S: $300.00 M: $150.00 | S: $6,600,000.00 M: $315,000.00
3 | Three-month Extension of Time under 37 CFR 1.136(a) | 40,000 | $1,400.00 | $56,000,000.00
3 | Three-month Extension of Time under 37 CFR 1.136(a) (small entity) | S: 32,000 M: 3,000 | S: $700.00 M: $350.00 | S: $22,400,000.00 M: $1,050,000.00
3 | Four-month Extension of Time under 37 CFR 1.136(a) | 2,500 | $2,200.00 | $5,500,000.00
3 | Four-month Extension of Time under 37 CFR 1.136(a) (small entity) | S: 2,500 M: 350 | S: $1,100.00 M: $550.00 | S: $2,750,000.00 M: $192,500.00
3 | Five-month Extension of Time under 37 CFR 1.136(a) | 3,500 | $3,000.00 | $10,500,000.00
3 | Five-month Extension of Time under 37 CFR 1.136(a) (small entity) | S: 3,700 M: 250 | S: $1,000.00 M: $500.00 | S: $3,700,000.00 M: $125,000.00
5 | Statutory Disclaimer (including terminal disclaimer) | 60,000 | $160.00 | $9,600,000.00
5 | Statutory Disclaimer (including terminal disclaimer) (small entity) | 6,289 | $160.00 | $1,006,240.00
6 | Request for Expedited Examination of a Design Application | 200 | $900.00 | $180,000.00
6 | Request for Expedited Examination of a Design Application (small entity) | S: 160 M: 40 | S: $450.00 M: $225.00 | S: $72,000.00 M: $9,000.00
7 | Notice of Appeal | 22,500 | $800.00 | $18,000,000.00
7 | Notice of Appeal (small entity) | S: 6,000 M: 500 | S: $400.00 M: $200.00 | S: $2,400,000.00 M: $100,000.00
8 | Petition for Revival of an Application for Patent Abandoned Unintentionally | 3,500 | $1,700.00 | $5,950,000.00
8 | Petition for Revival of an Application for Patent Abandoned Unintentionally (small entity) | 4,500 | $850.00 | $3,825,000.00
9 | Petition for revival of an application for patent abandoned for failure to notify the office of a foreign or international filing | 150 | $1,700.00 | $255,000.00
9 | Petition for revival of an application for patent abandoned for failure to notify the office of a foreign or international filing (small entity) | 50 | $850.00 | $42,500.00
17 | Copy of File Content Showing Redactions | 1 | $130.00 | $130.00
19 | Request for Continued Examination (RCE) Transmittal (First Request) | 78,400 | $1,200.00 | $94,080,000.00
19 | Request for Continued Examination (RCE) Transmittal (First Request) (small entity) | S: 28,000 M: 5,600 | S: $600.00 M: $300.00 | S: $16,800,000.00 M: $1,680,000.00
19 | Request for Continued Examination (RCE) Transmittal (Second and Subsequent Requests) | 40,600 | $1,700.00 | $69,020,000.00
19 | Request for Continued Examination (RCE) Transmittal (Second and Subsequent Requests) (small entity) | S: 14,500 M: 2,900 | S: $850.00 M: $425.00 | S: $12,325,000.00 M: $1,232,500.00
20 | Request for Oral Hearing Before the Patent Trial and Appeal Board | 700 | $1,300 | $910,000.00
20 | Request for Oral Hearing Before the Patent Trial and Appeal Board (small entity) | S: 240 M: 10 | S: $650.00 M: $325.00 | S: $156,000.00 M: $3,250.00
21 | Request for Suspension of Action or Deferral of Examination Under 37 CFR 1.103(b), (c), or (d) | 520 | $140.00 | $72,800.00
21 | Request for Suspension of Action or Deferral of Examination Under 37 CFR 1.103(b), (c), or (d) (small entity) | S: 190 M: 40 | S: $70.00 M: $35.00 | S: $13,300.00 M: $1,400.00
22 | Request for Voluntary Publication or Republication (includes publication fee for republication) | 300 | $130.00 | $39,000.00
24 | Processing Fee Under 37 CFR 1.17(i) Transmittal | 340 | $130.00 | $44,200.00
32 | Filing a submission after final rejection (see 37 CFR 1.129(a)) | 60 | $840.00 | $50,400.00
32 | Filing a submission after final rejection (see 37 CFR 1.129(a)) (small entity) | S: 50 M: 10 | S: $420.00 M: $210.00 | S: $21,000.00 M: $2,100.00
33 | Correction of inventorship after first office action on the merits | 2,100 | $600.00 | $1,260,000.00
33 | Correction of inventorship after first office action on the merits (small entity) | S: 750 M: 150 | S: $300.00 M: $150.00 | S: $225,000.00 M: $22,500.00
34 | Request for correction in a patent application relating to inventorship or an inventor name, or order of names, other than in a reissue application (37 CFR 1.48) | 10,500 | $140.00 | $1,470,000.00
34 | Request for correction in a patent application relating to inventorship or an inventor name, or order of names, other than in a reissue application (37 CFR 1.48) | S: 3,750 M: 750 | S: $70.00 M: $35.00 | S: $262,500.00 M: $26,250.00
Total |  | 740,425 |  | $419,737,070.00
* “S” and “M” denote “Small Entity” and “Micro Entity” and reference the lower fee rates offered to small entities.

Therefore, the USPTO estimates that the total annual (non-hour) cost burden for this collection will be $420,815,258.45, with $1,078,188.45 in postage costs and $419,737,070.00 in filing fees.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Dated: May 16, 2016.
Marcie Lovett,
Records Management Division Director, OCIO, United States Patent and Trademark Office.

[FR Doc. 2016-12042 Filed 5-20-16; 8:45 am]

BILLING CODE 3510-16-P